DEPARTMENT OF ENERGY

Federal Energy Regulatory Commission

Combined Notice of Filings

Take notice that the Commission has received the following Natural Gas Pipeline Rate and Refund Report filings:

Filings Instituting Proceedings

Docket Numbers: PR15-5-000.

Applicants: Washington Gas Light Company.

Description: Tariff filing per 284.123(b)(1): Annual LAUF Adjustment Filing to be effective11/1/2014; TOFC: 980.

Filed Date: 10/31/14.

Accession Number: 20141031-5073.

Comments Due: 5 p.m. ET 11/21/14.

Docket Numbers: PR15-6-000.

Applicants: SourceGas Distribution LLC.

Description: Tariff filing per 284.123(b)(1) + (g): Second Revised Statement of Operating Conditions to be effective 10/1/2014; TOFC: 1300.

Filed Date: 10/31/14.

Accession Number: 20141031-5099.

Comments Due: 5 p.m. ET 11/21/14.

284.123(g) Protests Due: 5 p.m. ET12/30/14.

Docket Numbers: RP15-146-000.

Applicants: Gulf Crossing Pipeline Company LLC.

Description: § 4(d) rate filing per 154.204: Cap Rel Neg Rate Agmt (Vanguard 597, 598 to Tenaska 1614, 1615) to be effective 11/1/2014.

Filed Date: 11/4/14.

Accession Number: 20141104-5030.

Comments Due: 5 p.m. ET 11/17/14.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: PR14-52-001.

Applicants: Acadian Gas Pipeline System.

Description: Tariff filing per 284.123(b), (e) + (g): Rate Petition Amendment to be effective 9/8/2014; TOFC: 1270.

Filed Date: 11/3/14.

Accession Number: 20141103-5033.

Comments Due: 5 p.m. ET 11/24/14.

284.123(g) Protests Due: 5 p.m. ET11/24/14.

Docket Numbers: PR14-53-001.

Applicants: Cypress Gas Pipeline, LLC.

Description: Tariff filing per 284.123(b), (e) + (g): Rate Petition Amendment to be effective 9/8/2014; TOFC: 1270.

Filed Date: 11/3/14.

Accession Number: 20141103-5034.

Comments Due: 5 p.m. ET 11/24/14.

284.123(g) Protests Due: 5 p.m. ET11/24/14.

Docket Numbers: RP14-970-001.

Applicants: High Point Gas Transmission, LLC.

Description: Compliance filing per 154.203: High Point Compliance Filing in RP14-970 to be effective 10/16/2014.

Filed Date: 11/4/14.

Accession Number: 20141104-5090.

Comments Due: 5 p.m. ET 11/17/14.

Docket Numbers: RP14-973-001.

Applicants: American Midstream (Midla), LLC.

Description: Compliance filing per 154.203: Midla Compliance Filing in RP14-973 to be effective 10/16/2014.

Filed Date: 11/4/14.

Accession Number: 20141104-5089.

Comments Due: 5 p.m. ET 11/17/14.

Docket Numbers: RP15-11-001.

Applicants: Panhandle Eastern Pipe Line Company, LP.

Description: Compliance filing per 154.203: Compliance with RP15-11 Fuel Filing to be effective 11/1/2014.

Filed Date: 11/4/14.

Accession Number: 20141104-5107.

Comments Due: 5 p.m. ET 11/17/14.

Docket Numbers: RP15-74-001.

Applicants: Texas Eastern Transmission, LP.

Description: Tariff Amendment per 154.205(b): Errata to PCB Filing in RP15-74-000 to be effective 12/1/2014.

Filed Date: 11/4/14.

Accession Number: 20141104-5058.

Comments Due: 5 p.m. ET 11/17/14.

Docket Numbers: RP15-104-001.

Applicants: Texas Eastern Transmission, LP.

Description: Tariff Amendment per 154.205(b): Errata to Chesapeake Permanent Release in RP15-104, to be effective 11/1/2014.

Filed Date: 11/4/14.

Accession Number: 20141104-5049.

Comments Due: 5 p.m. ET 11/17/14.

Any person desiring to protest in any of the above proceedings must file in accordance with Rule 211 of the Commission's Regulations (18 CFR 385.211) on or before 5:00 p.m. Eastern time on the specified date(s).

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 5, 2014.
Nathaniel J. Davis, Sr.,
Deputy Secretary.

[FR Doc. 2014-26759 Filed 11-10-14; 8:45 am]

BILLING CODE 6717-01-P